DEPARTMENT OF DEFENSE

Office of the Secretary

Submission for OMB Review; Comment Request

ACTION: Notice.

The Department of Defense has submitted to OMB for clearance, the following proposal for collection of information under the provisions of the Paperwork Reduction Act (44 U.S.C. chapter 35).

DATES: Consideration will be given to all comments received by August 18, 2004.

Title and OMB Number: Defense Acquisition Regulation Supplement (DFARS) Section 211.273, Substitutions for Military or Federal Specifications and Standards, and Related Clause at DFARS 252.211-7005; OMB Number 0704-0398.

Type of Request: Extension.

Number of Respondents: 10.

Responses Per Respondent: 2.

Annual Responses: 20.

Average Burden Per Response: 1 hour.

Annual Burden Hours: 20.

Needs and Uses: This information collection permits offerors to propose Single Process Initiative (SPI) processes as alternatives to military or Federal specifications and standards cited in Department of Defense (DoD) solicitations for previously developed items. DoD uses the information to verify Government acceptance of an SPI process as a valid replacement for a military or Federal specification or standard. An offeror proposing to use an SPI process must: (1) identify the specific military or Federal specification or standard for which the SPI process has been accepted; (2) identify each facility at which the offeror proposes to use the SPI process in lieu of military or Federal specifications or standards cited in the solicitation; (3) identify the contract line items, subline items, components, or elements affected by the SPI process; and, (4) if the proposed SPI process has been accepted at the facility at which it is proposed for use, but is no yet listed at the SPI Internet site, submit documentation of the DoD acceptance of the SPI process.

Affected Public: Business or Other For-Profit; Not-For-Profit Institutions.

Frequency: On Occasion.

Respondent's Obligation: Required to Obtain or Retain Benefits.

OMB Desk Officer: Ms. Jacqueline Zeiher.

Written comments and recommendations on the proposed information collection should be sent to Ms. Zeiher at the Office of Management and Budget, Desk Officer for DoD, Room 10236, New Executive Office Building, Washington, DC 20503.

DoD Clearance Officer: Mr. Robert Cushing.

Written requests for copies of the information collection proposal should be sent to Mr. Cushing, WHS/ESCD/Information Management Division, 1225 South Clark Street, Suite 504, Arlington, VA 22202-4326.

Dated: July 12, 2004.
L.M. Bynum,
Alternate OSD Federal Register Liaison Officer, Department of Defense.

[FR Doc. 04-16259 Filed 7-16-04; 8:45 am]

BILLING CODE 5001-06-M